DEPARTMENT OF THE TREASURY

Office of the Comptroller of the Currency

Agency Information Collection Activities: Proposed Information Collection; Comment Request; Domestic Residential Home Equity Lending Data

AGENCY: Office of the Comptroller of the Currency (OCC), Treasury.

ACTION: Notice and request for comment.

SUMMARY: The OCC, as part of its continuing effort to reduce paperwork and respondent burden, invites the general public and other Federal agencies to take this opportunity to comment on a new information collection, as required by the Paperwork Reduction Act of 1995 (PRA).

Under the PRA, Federal agencies are required to publish notice in the Federal Register concerning each proposed collection of information, including each proposed extension of an existing collection of information, and to allow 60 days for public comment in response to the notice.

In accordance with the requirements of the PRA, the OCC may not conduct or sponsor, and the respondent is not required to respond to, an information collection unless it displays a currently valid Office of Management and Budget (OMB) control number.

The OCC is soliciting comment concerning its proposed information collection titled, “Domestic Residential Home Equity Lending Data.”

DATES: You should submit written comments by: November 4, 2014.

ADDRESSES: Because paper mail in the Washington, DC area and at the OCC is subject to delay, commenters are encouraged to submit comments by email if possible. Comments may be sent to: Legislative and Regulatory Activities Division, Office of the Comptroller of the Currency, Attention: 1557—NEW, 400 7th Street, SW., Suite 3E-218, Mail Stop 9W-11, Washington, DC 20219. In addition, comments may be sent by fax to (571) 465-4326 or by electronic mail to regs.comments@occ.treas.gov. You may personally inspect and photocopy comments at the OCC, 400 7th Street, SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

FOR FURTHER INFORMATION CONTACT: You can request additional information or a copy of the collection from Johnny Vilela or Mary H. Gottlieb, (202) 874-5090, for persons who are deaf or hard of hearing, TTY, (202) 649-5597, Legislative and Regulatory Activities Division, Office of the Comptroller of the Currency, 250 E Street SW., Washington, DC 20219.

SUPPLEMENTARY INFORMATION: The OCC is requesting OMB approval for the following information collection:

Title: Domestic Residential Home Equity Lending Data.

OMB Control Number: To be assigned by OMB.

Description: Comprehensive home equity line of credit data is vital to assessing and monitoring credit quality and loss mitigation activities in the residential mortgage market and the federal banking system. This data is important and necessary to support supervisory activities to ensure the safety and soundness of the federal banking system. Where the respondent is both the servicer and originator of a home equity loan or line of credit, the Home Equity Residential Lending Data collection would include origination data and only servicing data where the respondent services for others. Detailed loan level data would be collected monthly and portfolio level data collected quarterly. All data collected would be based on standard data and definitions.

The reported loan level data items would include: Loan number; property information; loan, line, and appraisal amounts; loan documentation information; loan-to-values and debt-to income-ratios; non-personally identifiable information borrower information; bankruptcy and foreclosure status; and other detailed loan information. The reported portfolio level data would include: Total managed Home Equity portfolio (lines and loans), total securitized Home Equity portfolio, and other portfolio level information.

Also, in order to match senior and junior lien residential mortgages on the same collateral, the OCC would collect additional information (add data elements) on the residential mortgage loans reported in Domestic First Lien Residential Mortgage and the Domestic Residential Home Equity Lending datasets. This data would include: Property and mailing address, census tract, liquidation status, and original lien position. By matching the senior and junior liens by property ID, the OCC would gain better insight into the level of risk of both credit types, for example, current loans secured by junior liens behind past due loans secured by first liens.

By matching the senior and junior liens by property ID, the OCC would gain better insight into the level of risk of both credit types, for example, current loans secured by junior liens behind past due loans secured by first liens.

Type of Review: Regular review.

Affected Public: Businesses or other for-profit.

Estimated Number of Respondents: 64.

Estimated Annual Responses per Respondent: 12.

Estimated Burden per Response: 430.

Estimated Total Annual Burden: 330,240 hours.

An agency may not conduct or sponsor, and a respondent is not required to respond to, an information collection unless the information collection displays a currently valid OMB control number.

Comments submitted in response to this notice will be summarized and included in the request for OMB approval. All comments become a matter of public record. Comments are invited on:

(a) Whether the collection of information is necessary for the proper performance of the functions of the OCC, including whether the information shall have practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: August 18, 2014.
Stuart E. Feldstein,
Director, Legislative & Regulatory Activities Division.

[FR Doc. 2014-21129 Filed 9-4-14; 8:45 am]

BILLING CODE 4810-33-P